POSTAL REGULATORY COMMISSION

[Docket No. CP2012-40; Order No. 1820]

Negotiated Service Agreement

AGENCY: Postal Regulatory Commission.

ACTION: Notice.

SUMMARY: The Commission is noticing a recent Postal Service filing concerning an amendment to Parcel Select Contract 3. This notice informs the public of the filing, invites public comment, and takes other administrative steps.

DATES: Comments are due: September 6, 2013.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION:

Table of Contents

I. Introduction

II. Notice of Filings

III. Ordering Paragraphs

I. Introduction

On August 28, 2013, the Postal Service filed notice that it has agreed to an amendment to the existing Parcel Select Contract 3 subject to this docket.¹ The Postal Service includes one attachment in support of its Notice:

¹ Notice of United States Postal Service of Amendment to Parcel Select Contract 3, With Portions Filed Under Seal, August 28, 2013 (Notice).

• Attachment A—a redacted copy of the amendment to the existing Parcel Select Contract 3.

The Postal Service also filed the unredacted amendment under seal. It asserts that the “supporting financial documentation and financial certification initially provided in this docket remain applicable.” Id. at 1. It also contends that the amendment “will not materially affect the cost coverage” of the product. Id. The Postal Service seeks to incorporate by reference the Application for Non-Public Treatment originally filed in this docket for the protection of customer-identifying information that it has filed under seal. Id.

The amendment changes the mechanism for the annual adjustment of prices. Id. Attachment A at 1-2. The Postal Service intends for the amendment to become effective on the day after the date that the Commission completes its review of the Notice. Id. at 1.

Supplemental Information. The Postal Service is requested to confirm that it intends for the amendment to apply with respect to the annual adjustment for the contract year beginning August 1, 2014. The Postal Service is further requested to submit, under seal if necessary, the prices in effect for the contract year beginning August 1, 2013. The Postal Service response is due no later than September 4, 2013.

II. Notice of Filings

Interested persons may submit comments on whether the changes presented in the Postal Service's Notice are consistent with the policies of 39 U.S.C. 3632, 3633, or 3642, 39 CFR 3015.5, and 39 CFR part 3020, subpart B. Comments are due no later than September 6, 2013. The public portions of these filings can be accessed via the Commission's Web site (http://www.prc.gov).

The Commission appoints Lyudmila Y. Bzhilyanskaya to represent the interests of the general public (Public Representative) in this case.

III. Ordering Paragraphs

It is ordered:

1. The Commission reopens Docket No. CP2012-40 for consideration of matters raised by the Postal Service's Notice.

2. Pursuant to 39 U.S.C. 505, the Commission appoints Lyudmila Y. Bzhilyanskaya to serve as an officer of the Commission (Public Representative) to represent the interests of the general public in this proceeding.

3. The Postal Service response to the request for supplemental information is due no later than September 4, 2013.

4. Comments are due no later than September 6, 2013.

5. The Secretary shall arrange for publication of this order in the Federal Register.

By the Commission.
Shoshana M. Grove,
Secretary.

[FR Doc. 2013-21607 Filed 9-4-13; 8:45 am]

BILLING CODE 7710-FW-P